DEPARTMENT OF LABOR

Office of the Secretary

Bureau of International Labor Affairs; Office of Trade and Labor Affairs; Bahrain—United States Free Trade Agreement; Notice of Extension of the Period of Review for Submission #2011-01

AGENCY: Bureau of International Labor Affairs, U.S. Department of Labor.

ACTION: Notice.

SUMMARY: The Office of Trade and Labor Affairs (OTLA) in the Bureau of International Labor Affairs of the U.S. Department of Labor has determined that an extension of time is required for its review of a public submission concerning Bahrain filed under Chapter Fifteen (the Labor Chapter) of the Bahrain—United States Free Trade Agreement (FTA).

The submission was received on April 21, 2011 from the American Federation of Labor and Congress of Industrial Organizations (AFL-CIO) and alleges actions by the Government of Bahrain that, if substantiated, would be inconsistent with Bahrain's commitments under the FTA Labor Chapter.

OTLA accepted the submission for review on June 10, 2011, in accordance with its published procedures and standards for acceptance. Acceptance of the submission for review does not imply a finding that the allegations are true. Rather, it triggers a 180-day fact-finding and review period (unless circumstances as determined by OTLA require an extension of time) that results in the issuance of a public report of any findings and recommendations.

As part of its ongoing review, OTLA sent a delegation to Bahrain from October 22-26, 2011 to gather information on issues raised by the public submission. The Department of Labor delegation met with representatives from the Government of Bahrain, Bahraini trade unions, employers' organizations, employers, workers, and other groups with information relevant to the submission.

Due to the receipt of recent information relevant to the submission and the thorough on-going review process, OTLA has determined that the circumstances require an extension of time. The extension of time is necessary to permit adequate consideration of several recent developments:

• The Government of Bahrain has recently made commitments to the U.S. government and to the Bahraini public to promptly and favorably resolve the matters at issue in the AFL-CIO submission. It is important for OTLA to assess the progress made in coming weeks towards prompt and favorable resolution;

• OTLA has recently received a substantial amount of information and a large volume of documents, requiring careful study and analysis. Several hundred pages of documents in Arabic require translation;

• OTLA's visit to Bahrain for first hand collection of documentary and interview information, the source of much of the most substantive and relevant information, was twice delayed, to accommodate the schedule of elections in Bahrain and at the request of the Government of Bahrain; and

• There have been other recent developments in response to the issues raised by the AFL-CIO submission, and on matters closely related to them. It is important that there be sufficient opportunity to assess the Government of Bahrain's response to them. These include the issuance of the Report of the Bahrain Independent Commission of Inquiry and the proposal of the Government of Bahrain to the Governing Body of the International Labor Organization (ILO) to constitute a tripartite committee to address the issue of workplace dismissals and reinstatements, to avail itself of the independent legal advice of the ILO, and to report to the ILO Director General and to the ILO Governing Body.

OTLA will continue to give this matter the highest priority and to devote the resources necessary to completing the review as expeditiously as possible.

DATES: Effective Date: December 7, 2011.

FOR FURTHER INFORMATION CONTACT: Gregory Schoepfle, Director, OTLA, U.S. Department of Labor, 200 Constitution Avenue NW., Room S-5303, Washington, DC 20210. Telephone: (202) 693-4900 (this is not a toll-free number).

SUPPLEMENTARY INFORMATION: Article 15.4.2 of the Labor Chapter of the Bahrain—United States Free Trade Agreement establishes that each Party's contact point shall provide for the submission, receipt, and consideration of communications from persons of a Party on matters related to provisions of the Labor Chapter and shall review such communications in accordance with domestic procedures. On December 14, 2006, the Department of Labor's OTLA was designated as the office to serve as the contact point for administering the labor provisions in free trade agreements, including the Bahrain—United States Free Trade Agreement. 71 FR 76691 (2006). The same Federal Register notice informed the public of the Procedural Guidelines that OTLA would follow for the receipt and review of public submissions. These Procedural Guidelines are available at http://www.dol.gov/ilab/programs/otla/proceduralguidelines.htm. According to the definitions contained in the Procedural Guidelines (Section B) a “submission,” as used in the guidelines, means “a communication from the public containing specific allegations, accompanied by relevant supporting information, that another Party has failed to meet its commitments or obligations arising under a labor chapter * * *.”

The Procedural Guidelines specify that OTLA shall consider six factors, to the extent that they are relevant, in determining whether to accept a submission for review:

1. Whether the submission raises issues relevant to any matter arising under a labor chapter;

2. Whether a review would further the objectives of a labor chapter;

3. Whether the submission clearly identifies the person filing the submission, is signed and dated, and is sufficiently specific to determine the nature of the request and permit an appropriate review;

4. Whether the statements contained in the submission, if substantiated, would constitute a failure of the other Party to comply with its obligations or commitments under a labor chapter;

5. Whether the statements contained in the submission or available information demonstrate that appropriate relief has been sought under the domestic laws of the other Party, or that the matter or a related matter is pending before an international body; and,

6. Whether the submission is substantially similar to a recent submission and significant, new information has been furnished that would substantially differentiate the submission from the one previously filed.

The submission raises pertinent issues that would further the objectives of the Labor Chapter and that would, if substantiated, constitute a failure of the Government of Bahrain to comply with its FTA commitments. The submission provides new information and was filed in a correct and complete manner with an allegation that is specific enough to be investigated. The affected trade unionists have attempted to engage in dialogue with the Government of Bahrain regarding the allegations contained in the submission. The OTLA has taken these factors into account and accepted the submission for review.

OTLA's decision to accept the submission for review is not intended to indicate any determination as to the validity or accuracy of the allegations contained in the submission. The objectives of the review of the submission will be to gather information so that OTLA can better understand and publicly report on the U.S. Government's views regarding whether the Government of Bahrain's actions were consistent with the obligations set forth in the Labor Chapter of the Bahrain—United States Free Trade Agreement. The review will be completed and a public report issued within 180 days, unless circumstances, as determined by OTLA, require an extension of time, as set out in the Procedural Guidelines. The public report will include a summary of the review process, as well as findings and recommendations.

Signed at Washington, DC, on December 22, 2011.
Carol Pier,
Associate Deputy Undersecretary, International Affairs.

[FR Doc. 2011-33478 Filed 12-28-11; 8:45 am]

BILLING CODE 4510-28-P